DEPARTMENT OF THE INTERIOR

National Park Service

Mary McLeod Bethune Council House National Historic Site Advisory Commission; Notice of Public Meeting

Notice is hereby given in accordance with the Federal Advisory Committee Act that a meeting of the Mary McLeod Bethune Council House National Historic Site Advisory Commission will be held on August 13, 2001 at 1 pm to 5 pm and on August 14, 2001 at 8 am to 1 pm, at the Wyndham Washington, DC located at 1400 M Street, NW., Washington, DC.

The Advisory Commission was authorized on December 11, 1991, by Public Law 102-211 for the purpose of advising the Secretary of the Interior in the development of a General Management Plan for the Mary McLeod Bethune Council House National Historic Site.

The members of the Commission are as follows: Dr. Bettye Collier-Thomas; Ms. Brandi L. Creighton; Dr. Ramona Edelin; Dr. Shelia Flemming; Dr. Bettye J. Gardner; Ms. Brenda Girton-Mitchell; Dr. Janette Hoston Harris; Dr. Dorothy I. Height; Mr. Eugene Morris; Dr. Frederick Stielow; Dr. Rosalyn Terborg-Penn; Mrs. Romaine B. Thomas; Ms. Barbara Van Blake, and Mrs. Bertha S. Waters.

The purpose of the meeting will be to continue planning and development a general management plan for the Mary McLeod Bethune Council House National Historic Site. The meeting will be open to the public. Any person may file with the Commission a written statement concerning the matters to be discussed. Persons who wish further information concerning this meeting or who wish to file a written statement or testify at the meeting may contact Ms. Diann Jacox, the Federal Liaison Officer for the Commission, at (202) 673-2402. Minutes of the meeting will be available for public inspection 4 weeks after the meeting at the Mary McLeod Bethune Council House National Historic Site, located at 1318 Vermont Avenue, NW., Washington, DC 20005.

Dated: June 14, 2001.
John Hale,
Superintendent, National Capital Parks—East.

[FR Doc. 01-16543 Filed 6-29-01; 8:45 am]

BILLING CODE 4310-70-M